NUCLEAR REGULATORY COMMISSION

[NRC-2010-0148]

Notice of Issuance of Regulatory Guide

AGENCY: Nuclear Regulatory Commission.

ACTION: Notice of Issuance and Availability of Regulatory Guide 8.4, Revision 1, “Personnel Monitoring Device—Direct-Reading Pocket Dosimeters.”

FOR FURTHER INFORMATION CONTACT: Harriet Karagiannis, Regulatory Guide Development Branch, Division of Engineering, Office of Nuclear Regulatory Research, U.S. Nuclear Regulatory Commission, Washington, DC 20555-0001; telephone: 301-251-7477 or e-mail: Harriet.Karagiannis@nrc.gov.

SUPPLEMENTARY INFORMATION:

I. Introduction

The U.S. Nuclear Regulatory Commission (NRC or Commission) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Proposed Revision 1 of Regulatory Guide (RG) 8.4, “Personnel Monitoring Device—Direct-Reading Pocket Dosimeters,” was issued with a temporary identification as Draft Regulatory Guide, DG-8036 on April 9, 2010 (75 FR 18241). This guidance sets forth the NRC staff's views of acceptable methods for complying with the NRC's regulations on direct-reading pocket dosimeters; it includes specific performance standards for personnel monitoring but not for area monitoring.

The regulatory requirements for the use of personnel monitoring devices are mainly established in Title 10 of the Code of Federal Regulations, (CFR) part 20, “Standards for Protection Against Radiation” (10 CFR part 20), which requires licensees to determine and record occupational exposures to demonstrate compliance with dose limits for adults (including declared pregnant women), for an embryo/fetus, and for minors, and to provide and direct the use of individual monitoring devices. In addition, 10 CFR part 34, “Licenses for Industrial Radiography and Radiation Safety Requirements for Industrial Radiographic Operations,” includes a specific provision, 10 CFR 34.47, “Personnel Monitoring,” that requires the use of a direct-reading pocket dosimeter or, as an alternative to an ion-chamber pocket dosimeter, an electronic personnel dosimeter for industrial radiographer personnel monitoring. Also, NUREG-1556, “Consolidated Guidance about Materials Licenses,” Volume 2, “Program-Specific Guidance about Industrial Radiography Licenses,” issued August 1998, provides guidance for the use of pocket dosimeters in industrial radiographic operations.

II. Further Information

On April 9, 2010, DG-8036 was published with a request for public comments (75 FR 18241). The public comment period closed on June 8, 2010. The staff's response to public comments are located in NRC's Agencywide Documents Access and Management System (ADAMS) under Accession No. ML101900115. The regulatory analysis may be found in ADAMS under Accession No. ML101900101. Electronic copies of Regulatory Guide 8.4, Revision 1 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at 301-415-4737 or 800-397-4209, by fax at (301) 415-3548, and by e-mail to pdr.resource@nrc.gov.

Regulatory guides are not copyrighted, and NRC approval is not required to reproduce them.

Dated at Rockville, Maryland, this 10th day of June, 2011.
For the Nuclear Regulatory Commission.
Thomas H. Boyce,
Chief, Regulatory Guide Development Branch, Division of Engineering, Office of Nuclear Regulatory Research.

[FR Doc. 2011-15220 Filed 6-17-11; 8:45 am]

BILLING CODE 7590-01-P